FEDERAL COMMUNICATIONS COMMISSION

47 CFR Part 73

[MB Docket No. 09-194; DA 10-70]

Empowering Parents and Protecting Children in an Evolving Media Landscape

AGENCY: Federal Communications Commission.

ACTION: Proposed rule; extension of comment and reply dates.

SUMMARY: This document extends the period of time in which to file comments and reply comments in response to the FCC's Notice of Inquiry (74 FR 61308, Nov. 24, 2009) seeking comment on how to empower parents to help their children take advantage of the opportunities offered by evolving electronic media technologies while at the same time protecting children from the risks inherent in use of these technologies.

DATES: Comments are due February 24, 2010; reply comments are due March 26, 2010.

ADDRESSES: Federal Communications Commission, 445 12th Street, SW., Room TW-A325, Washington, DC 20554.

FOR FURTHER INFORMATION CONTACT: For additional information on this proceeding, contact David Konczal, Media Bureau, Policy Division at (202) 418-2228 or at David.Konczal@fcc.gov, Kim Matthews, Media Bureau, Policy Division at (202) 418-2154 or at Kim.Matthews@fcc.gov, or Holly Saurer, Media Bureau, Policy Division at (202) 418-7283 or at Holly.Saurer@fcc.gov.

SUPPLEMENTARY INFORMATION: We have received two requests for an extension of time in which to file comments and reply comments in response to the Commission's NOI. The first request was filed December 29, 2009 by the Association of National Advertisers, the American Advertising Federation, the American Association of Advertising Agencies, the Direct Marketing Association, the Interactive Advertising Bureau, and the Promotion Marketing Association. The second request for an extension of time was filed January 7, 2010 by the Children's Food and Beverage Advertising Initiative and the Children's Advertising Review Unit of the Council of Better Business Bureaus, Inc. Both filings request that the comment and reply comment dates be extended by thirty days each in order to permit preparation of full responses to the multiple issues raised in this proceeding, particularly in light of the intervening year-end holidays that fell in the middle of the current comment period. The NOI was released on October 23, 2009 and was published in the Federal Register on November 24, 2009. The comment date was set at 60 days after Federal Register publication (i.e., by January 25, 2010), and the reply comment date was set at 90 days after Federal Register publication (i.e., by February 24, 2010).

We believe that granting the requests for extension of time will facilitate the compilation of a more complete record in this proceeding. We conclude, therefore, that doing so is in the public interest. Accordingly, parties will have until Wednesday, February 24, 2010 to file comments and until Friday, March 26, 2010 to file reply comments.

Accordingly, it is ordered that, pursuant to Sections 4(i), 4(j) and 5(c) of the Communications Act of 1934, as amended, 47 U.S.C. 154(i), 154(j), and 155(c), and Sections 0.61, 0.283, and 1.46 of the Commission's rules, 47 CFR 0.61, 0.283, and 1.46, the date for filing comments and reply comments in response to the NOI in this proceeding are extended to February 24, 2010 and March 26, 2010, respectively.

Federal Communications Commission.
William T. Lake,
Chief, Media Bureau.

[FR Doc. 2010-1212 Filed 1-21-10; 8:45 am]

BILLING CODE 6712-01-P